Title 3—

The President

Proclamation 8460 of December 2, 2009

Critical Infrastructure Protection Month, 2009

By the President of the United States of America

A Proclamation

Critical infrastructure protection is an essential element of a resilient and secure nation. Critical infrastructure are the assets, systems, and networks, whether physical or virtual, so vital to the United States that their incapacitation or destruction would have a debilitating effect on security, national economic security, public health or safety. From water systems to computer networks, power grids to cellular phone towers, risks to critical infrastructure can result from a complex combination of threats and hazards, including terrorist attacks, accidents, and natural disasters. During Critical Infrastructure Protection Month, we pledge to work together to shelter our communities from the harm of uncertain threats.

My Administration is committed to ensuring our country’s essential resources are safe and capable of recovering from disruptive incidents. The Department of Homeland Security is leading a coordinated national program to reduce risks and improve our national preparedness, timely response, and rapid recovery in the event of an attack, natural disaster, or other emergency. The Department, in collaboration with other Federal stakeholders, State, local, and tribal governments, and private sector partners, has developed the National Infrastructure Protection Plan (NIPP) to establish a framework for securing our resources and maintaining their resilience from all hazards during an event or emergency.

During Critical Infrastructure Protection Month, we rededicate ourselves to safeguarding and strengthening our Nation’s infrastructure. Additionally, members of the public and private sectors should work with their appropriate State, regional, and local authorities to engage in critical infrastructure protection activities being coordinated across the country. Americans can learn more about the NIPP and its partnership framework by visiting: www.dhs.gov/criticalinfrastructure.

NOW, THEREFORE, I, BARACK OBAMA, President of the United States of America, by virtue of the authority vested in me by the Constitution and the laws of the United States, do hereby proclaim December 2009 as Critical Infrastructure Protection Month. I call upon the people of the United States to recognize the importance of partnering to protect our Nation’s resources and to observe this month with appropriate events and training to enhance our national security and resilience.

IN WITNESS WHEREOF, I have hereunto set my hand this second day of December, in the year of our Lord two thousand nine, and of the Independence of the United States of America the two hundred and thirty-fourth.

[FR Doc. E9-29371

Filed 12-7-09; 8:45 am]

Billing code 3195-W0-P